DEPARTMENT OF THE INTERIOR

National Park Service

[NPS-PWR-TUSK-27017: PX.XLKTUSK15.00.1]

Request for Nominations for the Tule Springs Fossil Beds National Monument Advisory Council

AGENCY: National Park Service, Interior.

ACTION: Request for nominations.

SUMMARY: The National Park Service (NPS), U.S. Department of the Interior, is requesting nominations for qualified persons to serve as members of the Tule Springs Fossil Beds National Monument Advisory Council (Council).

DATES: Written nominations must be postmarked by March 4, 2019.

ADDRESSES: Nominations should be sent to Diane Keith, Superintendent, Tule Springs Fossil Beds National Monument, 601 Nevada Way, Boulder City, Nevada 89005, via telephone (702) 515-5462, or email at tusk_information@nps.gov.

FOR FURTHER INFORMATION CONTACT: Diane Keith, Superintendent, Tule Springs Fossil Beds National Monument, 601 Nevada Way, Boulder City, Nevada 89005, via telephone at (702) 515-5462, or email at tusk_information@nps.gov.

SUPPLEMENTARY INFORMATION: The Council was established by section 3092(a)(6) of Public Law 113-291, and in accordance with the provisions of the Federal Advisory Committee Act (5 U.S.C. Appendix 1-16). The purpose of the Council is to provide the Secretary of the Interior (Secretary) and NPS guidance for the management of the Monument.

The Council is composed of 10 members, appointed by the Secretary to 3-year terms, and consists of the following members: One representative of the County Commission; one representative appointed by the city council of Las Vegas, Nevada; one representative appointed by the city council of North Las Vegas, Nevada; one member appointed by the tribal council of the Las Vegas Paiute Tribe; one representative of the conservation community in southern Nevada; one representative of Nellis Air Force Base; one member who resides in the County and has a background that reflects the purpose for which the Monument was established; and two members who reside in the County or adjacent counties, both of whom shall have experience in the field of paleontology, obtained through higher education, experience, or both.

We are currently seeking members in all categories. Nominations should be typed and should include a resume providing an adequate description of the nominee's qualifications, including information that would enable the Department of the Interior to make an informed decision regarding meeting the membership requirements of the Council and permit the Department to contact a potential member. All documentation, including letters of recommendation, must be compiled and submitted in one complete package. All those interested in membership, including current members whose terms are expiring, must follow the same nomination process. Members may not appoint deputies or alternates.

Members of the Council serve without compensation. However, while away from their homes or regular places of business in the performance of services for the Council as approved by the Designated Federal Officer, members may be allowed travel expenses, including per diem in lieu of subsistence, in the same manner as persons employed intermittently in Government service are allowed such expenses under section 5703 of Title 5 of the United States Code.

Public Disclosure of Comments: Before including your address, phone number, email address, or other personal identifying information in your nomination, you should be aware that your entire nomination—including your personal identifying information—may be made publicly available at any time. While you can ask us in your nomination to withhold your personal identifying information from public review, we cannot guarantee that we will be able to do so.

Authority: 5 U.S.C. Appendix 2.

Alma Ripps,
Chief, Office of Policy.

[FR Doc. 2019-00703 Filed 1-31-19; 8:45 am]

BILLING CODE 4312-52-P